SMALL BUSINESS ADMINISTRATION

National Small Business Development Center Advisory Board; Public Meeting

The U.S. Small Business Administration National Small Business Development Center Advisory Board will hold a public meeting on Sunday, July 20, 2003, from 9 a.m. to 5 p.m. at the Westin Riverwalk Hotel, San Antonio, Texas to discuss such matters as may be presented by members, staff of the U.S. Small Business Administration, or others present. For further information, please write or call Evelyn Y. Prentice, U.S. Small Business Administration, 409 Third Street, SW., Sixth Floor, Washington, DC 20416, telephone number (202) 205-6185.

Candace Stoltz,
Director, Advisory Councils.

[FR Doc. 03-16809 Filed 7-2-03; 8:45 am]

BILLING CODE 8025-01-M